ENVIRONMENTAL PROTECTION AGENCY

40 CFR Part 52

[EPA-R03-OAR-2015-0470; FRL-9934-90-Region 4]

Approval and Promulgation of Air Quality Implementation Plans; Pennsylvania; Approval of the Base Year Emissions Inventory for the Liberty-Clairton Nonattainment Area for the 2006 24-Hour Fine Particulate Matter Standard and Approval of Transportation Conformity Insignificance Findings for the 1997 Annual and 2006 24-Hour Fine Particulate Matter Standards for the Liberty-Clairton Nonattainment Area

AGENCY: Environmental Protection Agency (EPA).

ACTION: Proposed rule.

SUMMARY: The Environmental Protection Agency (EPA) proposes to approve the State Implementation Plan (SIP) revision submitted by the Commonwealth of Pennsylvania for the purpose of meeting the statutory emissions inventory requirements for the Liberty-Clairton nonattainment area (hereafter “the Liberty-Clairton Area” or “the Area”) with respect the 2006 24-hour fine particulate matter (PM2.5) National Ambient Air Quality Standard (NAAQS or standard). The SIP revision consists of the 2007 base year emissions inventory for the Liberty-Clairton Area for the 2006 24-hour PM2.5 NAAQS. EPA is also proposing to approve a SIP revision consisting of Pennsylvania's determinations for both the 1997 annual and 2006 24-hour PM2.5 standards that onroad emissions of PM2.5 and nitrogen oxides (NOX) are insignificant contributors to PM2.5 concentrations in the Liberty-Clairton Area for transportation conformity purposes. In the Final Rules section of this Federal Register, EPA is approving Pennsylvania's SIP submittal as a direct final rule without prior proposal because the Agency views this as a noncontroversial submittal and anticipates no adverse comments. The publication of this document starts a 30-day public comment period on the adequacy of the submitted motor vehicle emission inventories. This comment period is concurrent with the comment period on this direct final rulemaking action. Any comments on the motor vehicle emission inventories should be submitted to the docket for this rulemaking. A detailed rationale for the approval is set forth in the direct final rule. Additionally, a more detailed description of the state submittal and EPA's evaluation is included in the Technical Support Documents (TSDs) prepared in support of this rulemaking action. A copy of the TSDs are available, upon request, from the EPA Regional Office listed in the ADDRESSES section of this document or is also available electronically within the Docket for this rulemaking action. If no adverse comments are received in response to this action, no further activity is contemplated. If EPA receives adverse comments, the direct final rule will be withdrawn and all public comments received will be addressed in a subsequent final rule based on this proposed rule. EPA will not institute a second comment period. Any parties interested in commenting on this action should do so at this time.

DATES: Comments must be received in writing by November 2, 2015.

ADDRESSES: Submit your comments, identified by Docket ID Number EPA-R03-OAR-2015-0470 by one of the following methods:

A. www.regulations.gov. Follow the on-line instructions for submitting comments.

B. Email: Fernandez.cristina@epa.gov.

C. Mail: EPA-R03-OAR-2015-0470, Cristina Fernandez, Associate Director, Office of Air Program Planning, Mailcode 3AP30, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2015-0470. EPA's policy is that all comments received will be included in the public docket without change, and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy during normal business hours at the Air Protection Division, U.S. Environmental Protection Agency, Region III, 1650 Arch Street, Philadelphia, Pennsylvania 19103. Copies of the State submittal are available at the Pennsylvania Department of Environmental Protection, Bureau of Air Quality Control, P.O. Box 8468, 400 Market Street, Harrisburg, Pennsylvania 17105; and at the Allegheny County Health Department, Bureau of Environmental Quality, Division of Air Quality, 301 39th Street, Pittsburgh, Pennsylvania 15201.

FOR FURTHER INFORMATION CONTACT: Emlyn Vélez-Rosa, (215) 814-2038, or by email at velez-rosa.emlyn@epa.gov.

SUPPLEMENTARY INFORMATION: For further information, please see the information provided in the direct final action, with the same title, that is located in the “Rules and Regulations” section of this Federal Register publication.

Dated: September 16, 2015.
Shawn M. Garvin,
Regional Administrator, Region III.

[FR Doc. 2015-24873 Filed 10-1-15; 8:45 am]

BILLING CODE 6560-50-P